DEPARTMENT OF DEFENSE

Office of the Secretary

Judicial Proceedings Since Fiscal Year 2012 Amendments Panel; Notice of Federal Advisory Committee Meeting

AGENCY: General Counsel of the Department of Defense, Department of Defense.

ACTION: Notice of Federal Advisory Committee meeting.

SUMMARY: The Department of Defense (DoD) is publishing this notice to announce that the following Federal Advisory Committee meeting of the Judicial Proceedings Since Fiscal Year 2012 Amendments Panel will take place.

DATES: Open to the public, Friday, April 7, 2017, from 9:00 a.m. to 4:15 p.m.

ADDRESSES: One Liberty Center, 875 N. Randolph Street, Suite 1432, Arlington, Virginia 22203.

FOR FURTHER INFORMATION CONTACT: Maria Fried, 703-571-2664 (Voice), 703-693-3903 (Facsimile), whs.pentagon.em.mbx.jusicial-panel@mail.mil (Email). Mailing address is Judicial Proceedings Panel, One Liberty Center, 875 N. Randolph Street, Suite 1432, Arlington, Virginia 22203. Web site: http://jpp.whs.mil/. The most up-to-date changes to the meeting agenda can be found on the Web site.

SUPPLEMENTARY INFORMATION: This meeting is being held under the provisions of the Federal Advisory Committee Act (FACA) of 1972 (5 U.S.C., Appendix, as amended), the Government in the Sunshine Act of 1976 (5 U.S.C. 552b, as amended), and 41 CFR 102-3.140. Contact: Ms. Julie Carson, Judicial Proceedings Panel, One Liberty Center, 875 N. Randolph Street, Suite 150, Arlington, Virginia 22203. Email: whs.pentagon.em.mbx.judicial-panel@mail.mil. Phone: (703) 693-3849. Web site: http://jpp.whs.mil.

Availability of Materials for the Meeting: A copy of the April 7, 2017, public meeting agenda and any updates or changes to the agenda, including the location and individual speakers not identified at the time of this notice, as well as other materials provided to Panel members for use at the public meeting, may be obtained at the meeting or from the Panel's Web site. Committee's Designated Federal Official: The Panel's Designated Federal Official is Ms. Maria Fried, Department of Defense, Office of the General Counsel, 1600 Defense Pentagon, Room 3B747, Washington, DC 20301-1600.

Purpose of the Meeting: In section 576(a)(2) of the National Defense Authorization Act for Fiscal Year 2013 (Pub. L. 112-239), as amended, Congress tasked the Judicial Proceedings Panel to conduct an independent review and assessment of judicial proceedings conducted under the Uniform Code of Military Justice (UCMJ) involving adult sexual assault and related offenses since the amendments made to the UCMJ by section 541 of the National Defense Authorization Act for Fiscal Year 2012 (Pub. L. 112-81; 125 Stat. 1404), for the purpose of developing recommendations for improvements to such proceedings. At this meeting, the Panel will receive a presentation on sexual assault adjudication data compiled by the JPP for fiscal year 2015 from JPP staff and Dr. Cassia Spohn, Director of the School of Criminology and Criminal Justice at Arizona State University. The Panel will also receive a presentation by officials from the DoD Sexual Assault Prevention and Response Office and the Office of the Under Secretary of Defense for Personnel and Readiness on DoD statistical data regarding military adjudication of sexual assault offenses and the implementation status of previous JPP recommendations regarding DoD sexual assault data collection and reporting. Finally, the JPP will continue deliberations on its victims' appellate rights report.

Agenda:

8:30 a.m.-9:00 a.m. Administrative Work (41 CFR 102-3.160, not subject to notice & open meeting requirements).

9:00 a.m.-9:15 a.m. Welcome and Introduction.

9:15 a.m.-12:15 p.m. Presentation of FY 2015 Sexual Assault Adjudication Data—Ms. Meghan Peters, Staff Attorney, Judicial Proceedings Panel—Dr. Cassia Spohn, Professor and Director, School of Criminology and Criminal Justice, Arizona State University.

12:15 p.m.-1:00 p.m. Lunch.

1:00 p.m.-2:30 p.m. DoD Presentation on Statistical Data Regarding Military Adjudication of Sexual Assault Offenses and DoD Update on JPP Recommendations 37 and 38 Regarding DoD Sexual Assault Data Collection and Reporting—Senior Leader, OSD—Dr. Nathan Galbreath, Senior Executive Advisor, Department of Defense Sexual Assault Prevention and Response Office.

2:30 p.m.-4:00 p.m. Deliberations on JPP Victims' Appellate Rights Report.

4:00 p.m.-4:15 p.m. Public Comment.

4:15 p.m. Meeting Adjourned.

Meeting Accessibility: Pursuant to 5 U.S.C. 552b and 41 CFR 102-3.140 through 102-3.165, and the availability of space, this meeting is open to the public. Seating is limited and is on a first-come basis. Visitors are required to sign in at the One Liberty Center security desk and must leave government-issued photo identification on file while in the building. Department of Defense Common Access Card (CAC) holders who do not have authorized access to One Liberty Center must provide an alternate form of government-issued photo identification to leave on file with security while in the building. All visitors must pass through a metal detection security screening. In the event the Office of Personnel Management closes the government due to inclement weather or for any other reason, please consult the Web site for any changes to the public meeting date or time. Individuals requiring special accommodations to access the public meeting should contact the Judicial Proceedings Panel at whs.pentagon.em.mbx.judicial-panel@mail.mil at least five (5) business days prior to the meeting so that appropriate arrangements can be made.

Written Statements: Pursuant to 41 CFR 102-3.140 and section 10(a)(3) of the Federal Advisory Committee Act of 1972, the public or interested organizations may submit written comments to the Panel about its mission and topics pertaining to this public session. Written comments must be received by the JPP at least five (5) business days prior to the meeting date so that they may be made available to the Judicial Proceedings Panel for their consideration prior to the meeting. Written comments should be submitted via email to the Judicial Proceedings Panel at whs.pentagon.em.mbx.judicial-panel@mail.mil in the following formats: Adobe Acrobat or Microsoft Word. Please note that since the Judicial Proceedings Panel operates under the provisions of the Federal Advisory Committee Act, as amended, all written comments will be treated as public documents and will be made available for public inspection. If members of the public are interested in making an oral statement pertaining to the agenda for the public meeting, a written statement must be submitted as above along with a request to provide an oral statement. After reviewing the written comments and the oral statement, the Chair and the Designated Federal Official will determine who will be permitted to make an oral presentation of their issue during the public comment portion of this meeting. This determination is at the sole discretion of the Chair and Designated Federal Official, will depend on the time available and relevance to the Panel's activities for that meeting, and will be on a first-come basis. When approved in advance, oral presentations by members of the public will be permitted from 4:00 p.m. to 4:15 p.m. on April 7, 2017, in front of the Panel members.

Dated: March 20, 2017.
Aaron Siegel,
Alternate OSD Federal Register Liaison Officer, Department of Defense.

[FR Doc. 2017-05765 Filed 3-22-17; 8:45 am]

BILLING CODE 5001-06-P